FEDERAL MARITIME COMMISSION

Notice of Agreements Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreement are available through the Commission's website (www.fmc.gov) or by contacting the Office of General Counsel at (202) 523-5740 or GeneralCounsel@fmc.gov.

Agreement No.: 201347-002.

Agreement Name: Sallaum/Hyundai Glovis Space Charter Agreement.

Parties: Hyundai Glovis Co. Ltd.; Sallaum Lines Ltd.

Filing Party: Wayne Rohde, Cozen O'Connor.

Synopsis: The Amendment updates the name and address of Sallaum; updates the address of Hyundai Glovis; revises the amount of space being chartered under the Agreement; adds a new Article 5.1(c) which updates and adds to the Agreement authority contained in the Hyundai Glovis/Sallaum Cooperative Working Agreement, No. 012443 (which the parties will terminate when the amendment becomes effective); and updates Article 9 of the Agreement. The amendment also restates the Agreement.

Proposed Effective Date: 1/30/2026.

Location: https://www2.fmc.gov/FMC.Agreements.Web/Public/AgreementHistory/33505.

Dated: February 6, 2026.
Jennifer Everling,
Assistant Secretary.

[FR Doc. 2026-02621 Filed 2-9-26; 8:45 am]

BILLING CODE 6730-02-P